DEPARTMENT OF AGRICULTURE

Submission for OMB Review; Comment Request; Correction

March 2, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 6, 2020 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: USDA Local and Regional Food Aid Procurement Program.

OMB Control Number: 0551-0046.

Summary: The Department of Agriculture published a document in the Federal Register of February 28, 2020, pg. 11332, concerning a request for comments on the information collection “USDA Local and Regional Food Aid Procurement Program” OMB control number 0551-0046. The document contained incorrect number of respondents and burden hours. The number of respondents should be 8 and the burden hours 31,372 not 22 respondents and 29,172 as published.

Ruth Brown,
Departmental Information Collection Clearance Officer.

[FR Doc. 2020-04522 Filed 3-4-20; 8:45 am]

BILLING CODE 3410-10-P